DEPARTMENT OF THE INTERIOR

Office of the Secretary

Bureau of Indian Affairs

Office of Special Trustee for American Indians

Office of Indian Trust Transition

Tribal Consultation on Indian Trust Asset Management

AGENCIES: Office of the Secretary, Bureau of Indian Affairs, Office of the Special Trustee for American Indians, Office of Indian Trust Transition, Interior.

ACTION: Notice of tribal consultation meeting.

SUMMARY: The Office of the Secretary, along with the Bureau of Indian Affairs, the Office of Special Trustee for American Indians, and the Office of Indian Trust Transition, will conduct an additional meeting to discuss a proposed reorganization of the Department's trust responsibility functions to improve the management of Indian trust assets. Any tribe, band, nation or individual is encouraged to attend this meeting and to submit written comments. This meeting is in addition to those identified in a prior Federal Register notice of December 11, 2001 (66 FR 64054).

DATES: The date and city location of the consultation meeting is as follows:

• February 14, 2002—Portland, Oregon.

ADDRESSES: The address for the consultation meeting, which will begin promptly at 9 a.m., is as follows:

• Sheraton Hotel, 8235 NE Airport Way, Portland, Oregon 97220.

FOR FURTHER INFORMATION CONTACT: Wayne R. Smith, Deputy Assistant Secretary—Indian Affairs, 1849 C Street, NW., MS 4140 MIB, Washington, DC 20240 (202/208-7163).

SUPPLEMENTARY INFORMATION: The purpose of this meeting is to involve affected and interested parties in the process of organizing the Department's trust asset management responsibility functions. The Department has determined that there is a need for dramatic change in the management of Indian trust assets. This need has been made apparent in several ways. An independent consultant has analyzed important components of the Department's trust reform activities and made several recommendations, including the recommendation that the Department consolidate trust functions under a single entity. Concerns have also been raised in the Cobell v. Norton case, which is currently pending in the Federal District Court for the District of Columbia. Internal review has also supported reorganization. Additionally, a recent report commissioned by the Department of the Interior has supported reorganization. A new office in the Department, the Office of Indian Trust Transition, has been created to plan and support reorganization. While preliminary actions have been taken by the Department, the plan for reorganization is still in the early stages of development.

Written comments may be submitted at the meeting location or may be mailed to the address indicated under the heading FOR FURTHER INFORMATION CONTACT. Interested persons may examine written comments during regular business hours (7:45 a.m. to 4:15 p.m. EST) as arranged by the Assistant Secretary—Indian Affairs, Washington, DC, Monday through Friday, except for Federal holidays. Commenters who wish to remain anonymous must clearly state this preference at the beginning of their written comments. The Department will honor requests for anonymity to the extent allowable by law.

This meeting supports administrative policy on tribal consultation by encouraging maximum direct participation of representatives of tribal governments, tribal organizations and other interested persons in important Departmental processes.

Dated: January 25, 2002.
J. Steven Griles,
Deputy Secretary.

[FR Doc. 02-2303 Filed 1-30-02; 8:45 am]

BILLING CODE 4310-02-M